DEPARTMENT OF JUSTICE

Antitrust Division

Notice Pursuant to the National Cooperative Research and Production Act of 1993—Petroleum Environmental Research Forum (“PERF”) Project

Notice is hereby given that, on October 21, 1999, pursuant to section 6(a) of the National Cooperative Research and Production Act of 1993, 15 U.S.C. 4301 et seq. (“the Act”), Exxon Research & Engineering Company (“ER&E”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Exxon Research and Engineering Company, Florham Park, NJ; Phillips Petroleum Company, Bartlesville, OK; Sunoco, Inc., Philadelphia, PA; Mobil Technology Company, Paulsboro, NJ; Conoco, Inc., Ponca City, OK; CITGO, Corpus Christi, TX; and BP-Amoco Oil International, Ltd., Middlesex, United Kingdom. The nature an objectives of the venture are the development of guidelines for carbon steel metallurgy and welding procedures for HF alkylations plants. Participation in this project will remain open until issuance of the final project report. The participants intend to file additional written notifications disclosing all changes in membership.

Constance K. Robinson,
Director of Operations, Antitrust Division.

[FR Doc. 00-12043 Filed 5-11-00; 8:45 am]

BILLING CODE 4410-11-M